DEPARTMENT OF DEFENSE

GENERAL SERVICES ADMINISTRATION

NATIONAL AERONAUTICS AND SPACE ADMINISTRATION

48 CFR Parts 4, 13, 18, 22, 25, 27, and 52

[FAR Case 2020-014, Docket No. FAR-2020-0014, Sequence No. 1]

RIN 9000-AO14

Federal Acquisition Regulation: United States-Mexico-Canada Agreement

AGENCY: Department of Defense (DoD), General Services Administration (GSA), and National Aeronautics and Space Administration (NASA).

ACTION: Proposed rule.

SUMMARY: DoD, GSA, and NASA are proposing to amend the Federal Acquisition Regulation (FAR) to implement the United States-Mexico-Canada Agreement Implementation Act.

DATES: Interested parties should submit written comments to the Regulatory Secretariat Division at the address shown below on or before February 11, 2022 to be considered in the formation of the final rule.

ADDRESSES: Submit comments in response to FAR Case 2020-014 to the Federal eRulemaking portal at https://www.regulations.gov by searching for “FAR Case 2020-014”. Select the link “Comment Now” that corresponds with FAR Case 2020-014. Follow the instructions provided on the “Comment Now” screen. Please include your name, company name (if any), and “FAR Case 2020-014” on your attached document. If your comment cannot be submitted using https://www.regulations.gov, call or email the points of contact in the FOR FURTHER INFORMATION CONTACT section of this document for alternate instructions.

Instructions: Please submit comments only and cite “FAR case 2020-014” in all correspondence related to this case. Comments received generally will be posted without change to http://www.regulations.gov, including any personal and/or business confidential information provided. To confirm receipt of your comment(s), please check https://www.regulations.gov, approximately two to three days after submission to verify posting.

FOR FURTHER INFORMATION CONTACT: Mr. Michael O. Jackson, Procurement Analyst, at 202-208-4949 or by email at michaelo.jackson@gsa.gov, for clarification of content. For information pertaining to status or publication schedules, contact the Regulatory Secretariat Division at 202-501-4755 or GSARegSec@gsa.gov. Please cite “FAR Case 2020-014.”

SUPPLEMENTARY INFORMATION:

I. Background

DoD, GSA, and NASA are issuing a proposed rule amending the FAR to implement the United States-Mexico-Canada Agreement Implementation Act (Pub. L. 116-113). On June 12, 2017, the President announced his intention to commence negotiations with Canada and Mexico to modernize the North American Free Trade Agreement (NAFTA). On November 30, 2018, the Governments of the United States, Mexico, and Canada (the Parties) signed the protocol replacing NAFTA with the United States-Mexico-Canada Agreement (USMCA). On December 10, 2019, the Parties signed the protocol of amendment to the USMCA. On January 29, 2020, the President signed into law the United States-Mexico-Canada Agreement Implementation Act, through which Congress approved the USMCA. On July 1, 2020, the USMCA entered into full force. (See U.S. Trade Representative Determination published June 29, 2020, 85 FR 39037.)

II. Discussion and Analysis

A. Chapter 13 of the USMCA

Chapter 13 of the USMCA sets forth certain obligations between the United States and Mexico with respect to Government procurement of goods and services, as specified in Annex 13-A of the USMCA. Chapter 13 of the USMCA applies only between Mexico and the United States and does not cover Canada.

Section 1-201 of Executive Order 12260 of December 31, 1980, delegates the functions of the President under sections 301 and 302 of the Trade Agreements Act of 1979 (Trade Agreements Act) (19 U.S.C. 2511-2512) to the U.S. Trade Representative.

In conformity with sections 301 and 302 of the Trade Agreements Act and Executive Order 12260, and in order to carry out U.S. obligations under Chapter 13 of the USMCA, the U.S. Trade Representative has determined that:

1. Mexico is a country that has become a party to the USMCA and will provide appropriate reciprocal competitive Government procurement opportunities to United States products and suppliers of such products. In accordance with section 301(b)(1) of the Trade Agreements Act, Mexico is so designated for purposes of section 301(a) of the Trade Agreements Act.

2. With respect to eligible products of Mexico (i.e., goods and services covered by the Schedule of the United States in Annex 13-A of the USMCA) and suppliers of such products, the application of any law, regulation, procedure, or practice regarding Government procurement is waived if it would, if applied to such products and suppliers, result in treatment less favorable than accorded to:

a. United States products and suppliers of such products; or

b. Eligible products of another foreign country or instrumentality which is a party to the Agreement on Government Procurement referred to in section 101(d)(17) of the Uruguay Round Agreements Act (19 U.S.C. 3511(d)(17)) and suppliers of such products.

With respect to Mexico, this waiver shall be applied by all entities listed in the Schedule of the United States in Annex 13-A of USMCA.

3. The designation in paragraph 1 and the waiver in paragraph 2 are subject to modification or withdrawal by the U.S. Trade Representative.

B. Canada's Status as a Designated Country

Although Canada is still a designated country under the World Trade Organization Government Procurement Agreement (WTO GPA), Canada is no longer a Free Trade Agreement country, because chapter 13 of the USMCA (government procurement) applies only to the United States and Mexico. Therefore, references to Canada as a Free Trade Agreement country are deleted, including the $25,000 threshold. Mexico thresholds remain unchanged.

C. Changes to the FAR Made by This Case

Part 18

• FAR 18.120, Use of patented technology under the North American Free Trade Agreement. This proposed rule would remove and reserve this section in its entirety, as waiver of NAFTA is no longer applicable.

Part 22

• FAR 22.1503(b)—FAR section 22.1503 refers to the List of Products Requiring Contractor Certification as to Forced or Indentured Child Labor. Requirements of FAR subpart 22.15 do not apply to certain countries of origin in FAR 22.1503(b). Canada currently appears as such a country in paragraph (b)(1). The language on Canada is removed from FAR 22.1503(b)(1) where the anticipated value of the acquisition is $25,000 or more. Canada is added to the list of countries at FAR 22.1503(b)(3) where the anticipated value of the acquisition is $182,000. The source for the countries in paragraph (b)(3) is the definition of WTO GPA countries at FAR 25.003.

• FAR 22.1505(a)—For solicitations estimated to equal or exceed $25,000, the contracting officer currently must exclude from the solicitation's List of products any end products from countries identified at FAR 22.1503(b). The $25,000 is the free trade agreement threshold for Canada, which is no longer applicable. The proposed rule will change this to $50,000, which is the threshold for Israel.

Part 25

• FAR 25.400(a)(2)(i)—The proposed rule would remove all references to the NAFTA, replacing them with the new USMCA language, including statutory references, and explanatory language concerning the USMCA Government Procurement Agreement as now applicable only to the United States and Mexico.

• FAR 25.401(a)(6)—The list of exceptions to the trade agreements would include any goods and services specifically excluded under individual trade agreements. An example is given of USTR-negotiated exceptions, which usually would be found at agency regulations supplementing the FAR, as well as being listed in the annexes of each trade agreement.

• FAR 25.402(b)—The proposed rule would remove references to “Canada” and the thresholds for Canada in the table and corresponding columns.

• FAR 25.1101(b)(1)—The prescription at FAR 25.1101(b)(1)(i)(A) is adjusted for the clause at FAR 52.225-3, Buy American—Free Trade Agreements—Israeli Trade Act. The $25,000 threshold for Canada is removed and replaced with the $50,000 threshold for Israel, for use when the acquisition is for supplies, or for services involving the furnishing of supplies, for use within the United States, and the acquisition value is now $50,000 or more, but is less than $182,000. The prescription for Alternate I is removed at FAR 25.1101(b)(1)(ii), as the Alternate is no longer necessary.

• FAR 25.1101(b)(2)—In the prescription for FAR 52.225-4, Buy American—Free Trade Agreements—Israeli Trade Act Certificate, the Alternate I is deleted as no longer necessary.

Part 27

• The proposed rule seeks to revise the section heading of FAR 27.204-1, Use of patented technology under the North American Free Trade Agreement, to replace NAFTA with USMCA and remove all the language covered under NAFTA at FAR 27.204-1, instead instructing contracting officers that when questions arise with regard to use of patented technology under the USMCA, the contracting officer should consult with legal counsel. In FAR 27.204-1 and 27.204-2, notes are added about the content of the USMCA.

Part 52

• FAR 52.204-8(c)(1)(xxi)(A) and (B)—Annual Representations and Certifications, removes the Canadian Free Trade Act threshold of $25,000, to become the Israeli Trade Act threshold of $50,000 in paragraph (A). Paragraph (B) is being removed as it is the prescription for Alternate I of FAR 52.225-4, Buy American—Free Trade Agreements—Israeli Trade Act Certificate; that Alternate is being removed.

• FAR 52.212-3, Offeror Representations and Certifications—Commercial Items (g)—This is the commercial item equivalent of FAR 52.225-4, Buy American—Free Trade Agreements—Israeli Trade Act Certificate, including its Alternate I (see below).

• FAR 52.222-19(a)—Removing from the Child Labor clause the $25,000 threshold for Canada from paragraph (a)(1) and in the list of countries in paragraph (a)(3) adding “Canada”.

• FAR 52.225-3, Buy American—Free Trade Agreements—Israeli Trade Act and FAR 52.225-4, Buy American—Free Trade Agreement—Israeli Trade Act Certificate—the proposed rule would remove Alternate I, which references “Canadian end product” and making it reserved; with conforming changes revising Alternates II and III.

• FAR 52.225-5, Trade Agreements—in paragraph (2) of the definition of “Designated country”, the proposed rule is removing Canada from the list of Free Trade Agreement countries.

• FAR 52.225-11(a)(2)—Buy American—Construction Materials Under Trade Agreements, in paragraph (2) of the definition of “Designated country”, the proposed rule is removing Canada from the list of Free Trade Agreement countries, and revising Alternate I to remove “NAFTA” and replacing it with “United States-Mexico-Canada Agreement”.

• FAR 52.225-23(a)(2), Required Use of American Iron, Steel, and Manufactured Goods—Buy American Statute—Construction Materials Under Trade Agreements—in paragraph (2) of the definitions of “Designated country” and “Recovery Act designated country”, the proposed rule is removing Canada from the list of Free Trade Agreement countries.

• Conforming changes. The proposed rule is making conforming changes at FAR 4.20, FAR 13.302-5, and FAR part 25 (changing “NAFTA” to “USMCA”), and in the clauses at FAR 52.212-5 and 52.213-4.

III. Applicability to Contracts at or Below the Simplified Acquisition Threshold (SAT) and for Commercial Items, Including Commercially Available Off-the-Shelf (COTS) Items

This proposed rule does not create any new provisions or clauses, nor does it change the applicability of any existing provisions or clauses included in solicitations and contracts valued at or below the SAT, or for commercial items, including COTS items.

IV. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993.

V. Congressional Review Act

As required by the Congressional Review Act (5 U.S.C. 801-808) before an interim or final rule takes effect, DoD, GSA, and NASA will send the rule and the “Submission of Federal Rules Under the Congressional Review Act” form to each House of the Congress and to the Comptroller General of the United States. A major rule cannot take effect until 60 days after it is published in the Federal Register. This rulemaking is not anticipated to be a major rule under 5 U.S.C. 804.

VI. Regulatory Flexibility Act

DoD, GSA, and NASA do not expect this propose rule to have a significant economic impact on a substantial number of small entities within the meaning of the Regulatory Flexibility Act, 5 U.S.C. 601-612, because although the proposed rule removes Canada as a Free Trade Agreement designated country and deletes the associated $25,000 threshold, Canada remains a WTO GPA designated country, at $182,000. The Mexico thresholds remain unchanged. However, an initial regulatory flexibility analysis (IRFA) has been performed and is summarized as follows:

The Department of Defense (DoD), General Services Administration (GSA), and National Aeronautics and Space Administration (NASA) are proposing to revise the Federal Acquisition Regulation (FAR) to implement the United States-Mexico-Canada Agreement Implementation Act (Pub. L. 116-113). On November 30, 2018, the Governments of the United States, Mexico, and Canada (the Parties) signed the protocol replacing NAFTA with the United States-Mexico-Canada Agreement (USMCA). On December 10, 2019, the Parties signed the protocol of amendment to the USMCA. On January 29, 2020, the President signed into law the United States-Mexico-Canada Agreement Act, through which Congress approved the USMCA. On July 1, 2020, the USMCA entered into full force.

The objective of the proposed rule is to implement the USMCA Implementation Act. The proposed rule makes changes in the FAR to conform to Chapter 13 of the USMCA, which sets forth certain obligations between the United States and Mexico with respect to Government procurement of goods and services, as specified in Annex 13-A of the USMCA. Chapter 13 of the USMCA applies only between Mexico and the United States and does not cover Canada. Although Canada is still a designated country under the World Trade Organization Government Procurement Agreement, Canada is no longer a Free Trade Agreement country, because chapter 13 of the USMCA (government procurement) applies only to the United States and Mexico. Therefore, references to Canada as a Free Trade Agreement country in the FAR are deleted, including the $25,000 threshold.

Canadian end products will still receive nondiscriminatory treatment with respect to the Buy American statute, but starting at $182,000 rather than $25,000.

Mexico thresholds remain unchanged.

The legal basis for the rulemaking is the United States-Mexico-Canada Agreement Implementation Act (Pub. L. 116-113).

Based on fiscal year 2019 data from the Federal Procurement Data System (FPDS), 129,308 small businesses were awarded Government contracts. Based on the data analysis approved under OMB Control Number 9000-0024, Buy American, Trade Agreements, and Duty-Free Entry; impacts to small businesses are anticipated to be negligible. Alternate I of the provision, FAR 52.225-4, Buy American—Free Trade Agreements—Israeli Trade Act Certificate, which is applicable to Canada, is deleted. The Trade Agreement clause at FAR 52.225-5, and the standard Buy American construction trade agreements clause at FAR 52.225-11, were revised to delete references to Canada as a Free Trade Agreement Country, as well as the associated $25,000 threshold. Lastly, in regard to the FAR 52.225-23, Recovery Act clause, additional construction awards are not anticipated using Recovery Act funds.

This proposed rule does not include any new reporting, recordkeeping, or other compliance requirements for small businesses. The proposed rule does not impose additional information collection requirements to the paperwork burden previously approved by the Office of Management and Budget (OMB) under the Paperwork Reduction Act (44 U.S.C. 3501-3521), Control Number 9000-0024, Buy American, Trade Agreements, and Duty-Free Entry.

The proposed rule does not duplicate, overlap, or conflict with any other Federal rules.

DoD, GSA, and NASA were unable to identify any alternatives to the rule that would reduce the impact on small entities and still meet the requirements of the USMCA rule.

The Regulatory Secretariat Division has submitted a copy of the IRFA to the Chief Counsel for Advocacy of the Small Business Administration. A copy of the IRFA may be obtained from the Regulatory Secretariat Division. DoD, GSA, and NASA invite comments from small business concerns and other interested parties on the expected impact of this rule on small entities.

DoD, GSA, and NASA will also consider comments from small entities concerning the existing regulations in subparts affected by this rulemaking consistent with 5 U.S.C. 610. Interested parties must submit such comments separately and should cite 5 U.S.C. 610 (FAR Case 2020-014), in correspondence.

VII. Paperwork Reduction Act

The Paperwork Reduction Act (44 U.S.C. 3501-3521) does apply. However, these changes to the FAR do not impose additional information collection requirements to the paperwork burden previously approved by the Office of Management and Budget Control Number 9000-0024, Buy American, Trade Agreements, and Duty-Free Entry.

List of Subjects in 48 CFR Parts 4, 13, 18, 22, 25, 27, and 52

Government procurement.

Janet Fry,
Director, Federal Acquisition Policy Division, Office of Governmentwide Acquisition Policy, Office of Acquisition Policy, Office of Governmentwide Policy.

Therefore, DoD, GSA, and NASA propose to amend 48 CFR parts 4, 13, 18, 22, 25, 27, and 52 as set forth below:

1. The authority citation for 48 CFR parts 4, 13, 18, 22, 25, 27, and 52 continues to read as follows:

Authority: 40 U.S.C. 121(c); 10 U.S.C. chapter 137; and 51 U.S.C. 20113.

PART 4—ADMINISTRATIVE AND INFORMATION MATTERS

4.1202 [Amended]

2. Amend section 4.1202 by removing from paragraph (a)(28) the phrase “Alternates I, II, and III” and adding “Alternates II and III” in its place.

PART 13—SIMPLIFIED ACQUISITION PROCEDURES

13.302-5 [Amended]

3. Amend section 13.302-5 by removing from paragraph (d)(3)(i) the phrase “Alternate I or”.

PART 18—EMERGENCY ACQUISITIONS

18.120 [Removed and Reserved]

4. Remove and reserve section 18.120.

PART 22—APPLICATION OF LABOR LAWS TO GOVERNMENT ACQUISITIONS

22.1503 [Amended]

5. Amend section 22.1503 by—

a. Removing paragraph (b)(1);

b. Redesignating paragraphs (b)(2) through (4) as paragraphs (b)(1) through (3); and

c. Removing from the newly redesignated paragraph (b)(3) the phrase “Bulgaria” and adding the phrase “Bulgaria, Canada” in its place.

22.1505 [Amended]

6. Amend section 22.1505 by removing from paragraph (a) the phrase “$25,000” and adding the phrase “$50,000” in its place.

PART 25—FOREIGN ACQUISITION

25.003 [Amended]

7. Amend section 25.003 by—

a. Removing from the definition of “Designated country” in paragraph (2) the phrase “Canada,”; and

b. Removing from the definition of “Free Trade Agreement country” the phrase “Canada,”.

8. Amend section 25.400 by revising paragraph (a)(2)(i) to read as follows:

25.400 Scope of subpart.

(a) * * *

(2) * * *

(i) USMCA (United States-Mexico-Canada Agreement, as approved by Congress in the United States-Mexico-Canada Agreement Implementation Act (Government Procurement Agreement applicable only to United States and Mexico) (Pub. L. 116-113) (19 U.S.C. chapter 29 (sections 4501-4732));

* * * * *

9. Amend section 25.401 by—

a. Removing from the end of paragraph (a)(4) the word “and”.

b. Removing from paragraph (a)(5) the phrase “13.501(a).” and adding the phrase “13.501(a); and” in its place;

c. Adding paragraph (a)(6);

d. In the table of paragraph (b), in the fourth column of the first row, removing the word “NAFTA” and adding the word “USMCA” in its place.

The addition reads as follows:

25.401 Exceptions.

(a) * * *

(6) Goods and services specifically excluded under individual trade agreements, such as exceptions negotiated by the U.S. Trade Representative for particular agencies. See the agency supplementary regulations.

25.402 [Amended]

10. Amend section 25.402 in table 1 of paragraph (b) by—

a. Removing the word “NAFTA” and adding “USMCA” in its place;

b. Removing the entry for “Canada”.

25.1101 [Amended]

11. Amend section 25.1101 by—

a. Removing from paragraph (b)(1)(i)(A) the phrase “$25,000” and adding “$50,000” in its place;

b. Removing paragraph (b)(1)(ii);

c. Redesignating paragraphs (b)(1)(iii) and (iv) as paragraphs (b)(1)(ii) and (iii);

d. Removing paragraph (b)(2)(ii); and

e. Redesignating paragraphs (b)(2)(iii) and (iv) as paragraphs (b)(2)(ii) and (iii).

PART 27—PATENTS, DATA, AND COPYRIGHTS

12. Revise section 27.204-1 to read as follows:

27.204-1 Use of patented technology under the United States-Mexico-Canada Agreement.

When questions arise with regard to use of patented technology under the United States-Mexico-Canada Agreement, the contracting officer should consult with legal counsel. Note that Article 20.6(a) of the Agreement discusses public health and pharmaceuticals.

13. Amend section 27.204-2 by adding a sentence to the end of the paragraph to read as follows:

27.204-2 Use of patented technology under the General Agreement on Tariffs and Trade (GATT).

* * * Article 20.40 of the United States-Mexico-Canada Agreement preserves parties' rights under Article 31.

PART 52—SOLICITATION PROVISIONS AND CONTRACT CLAUSES

14. Amend section 52.204-8 by revising the date of the provision, and paragraph (c)(1)(xxi) to read as follows:

52.204-8 Annual Representations and Certifications.

* * * * *

Annual Representations and Certifications (DATE)

* * * * *

(c)(1) * * *

(xxi) 52.225-4, Buy American—Free Trade Agreements—Israeli Trade Act Certificate. (Basic, Alternates II and III.) This provision applies to solicitations containing the clause at 52.225-3.

(A) If the acquisition value is less than $50,000, the basic provision applies.

(B) If the acquisition value is $50,000 or more but is less than $83,099, the provision with its Alternate II applies.

(C) If the acquisition value is $83,099 or more but is less than $100,000, the provision with its Alternate III applies.

* * * * *

15. Amend section 52.212-3 by—

a. Revising the date of the provision;

b. Removing paragraph (g)(2);

c. Redesignating paragraphs (g)(3) through (5) as paragraphs (g)(2) through (4); and

d. Revising the newly redesignated paragraph (g)(2).

The revisions read as follows:

52.212-3 Offeror Representations and Certifications—Commercial Items.

* * * * *

Offeror Representations and Certifications—Commercial Items (DATE)

* * * * *

(g) * * *

(2) Buy American—Free Trade Agreements—Israeli Trade Act Certificate, Alternate II. If Alternate II to the clause at 52.225-3 is included in this solicitation, substitute the following paragraph (g)(1)(ii) for paragraph (g)(1)(ii) of the basic provision:

(g)(1)(ii) The offeror certifies that the following supplies are Israeli end products as defined in the clause of this solicitation entitled “Buy American—Free Trade Agreements—Israeli Trade Act”:

Israeli End Products:

Line Item No. |  |

[List as necessary]

* * * * *

16. Amend section 52.212-5 by—

a. Revising the date of the clause;

b. Removing from paragraph (b)(28) the date “(JAN 2020)” and adding “(DATE)” in its place;

c. Revising paragraphs (b)(49)(i) and (ii);

d. Removing from paragraph (b)(49)(iii) the date “(JAN 2021)” and adding “(DATE)” in its place; and

e. Removing from paragraph (b)(50) the date “(OCT 2019)” and adding “(DATE)” in its place.

The revisions read as follows:

52.212-5 Contract Terms and Conditions Required To Implement Statutes or Executive Orders—Commercial Items.

* * * * *

Contract Terms and Conditions Required to Implement Statutes or Executive Orders—Commercial Items (DATE)

* * * * *

(b) * * *

__(49)(i) 52.225-3, Buy American—Free Trade Agreements—Israeli Trade Act (DATE) (19 U.S.C. 3301 note, 19 U.S.C. 2112 note, 19 U.S.C. 3805 note, 19 U.S.C. 4001 note, 19 U.S.C. chapter 29 (sections 4501-4732), Public Law 103-182, 108-77, 108-78, 108-286, 108-302, 109-53, 109-169, 109-283, 110-138, 112-41, 112-42, and 112-43.

__(ii) Alternate I [RESERVED].

* * * * *

17. Amend section 52.213-4 by—

a. Revising the date of the clause; and

b. Removing from paragraph (b)(1)(ii) the date “(JAN 2020)” and adding “(DATE)” in its place.

The revision reads as follows:

52.213-4 Terms and Conditions—Simplified Acquisitions (Other Than Commercial Items).

* * * * *

Terms and Conditions—Simplified Acquisitions (Other Than Commercial Items) (DATE)

* * * * *

18. Amend section 52.222-19 by—

a. Revising the date of the clause;

b. Removing paragraph (a)(1);

c. Redesignating paragraphs (a)(2) through (4) as paragraphs (a)(1) through (3); and

d. Removing from the newly redesignated paragraph (a)(3) the phrase “Bulgaria” and adding the phrase “Bulgaria, Canada” in its place.

The revision reads as follows:

52.222-19 Child Labor—Cooperation with Authorities and Remedies.

* * * * *

Child Labor—Cooperation With Authorities and Remedies (DATE)

* * * * *

19. Amend section 52.225-3 by—

a. Revising the date of the clause;

b. In paragraph (a), in the definition of “Free Trade Agreement country” removing “Canada,”;

c. Revising Alternates I and II; and

d. In Alternate III:

i. Revising the date of the Alternate; and

ii Removing from the introductory text “25.1101(b)(1)(iv)” and adding “25.1101(b)(1)(iii)” in its place.

The revisions read as follows:

52.225-3 Buy American—Free Trade Agreements—Israeli Trade Act.

* * * * *

Buy American—Free Trade Agreements—Israeli Trade Act (DATE)

* * * * *

Alternate I [Reserved]

Alternate II (DATE). As prescribed in 25.1101(b)(1)(ii), substitute the following paragraph (c) for paragraph (c) of the basic clause:

(c) Delivery of end products. 41 U.S.C. chapter 83 provides a preference for domestic end products for supplies acquired for use in the United States. In accordance with 41 U.S.C. 1907, the component test of the Buy American statute is waived for an end product that is a COTS item (See 12.505(a)(1)). In addition, the Contracting Officer has determined that the Israeli Trade Act applies to this acquisition. Unless otherwise specified, this trade agreement applies to all items in the Schedule. The Contractor shall deliver under this contract only domestic end products except to the extent that, in its offer, it specified delivery of foreign end products in the provision entitled “Buy American—Free Trade Agreements—Israeli Trade Act.” If the Contractor specified in its offer that the Contractor would supply an Israeli end product, then the Contractor shall supply an Israeli end product or, at the Contractor's option, a domestic end product.

Alternate III (DATE). * * *

* * * * *

20. Amend section 52.225-4 by—

a. Revising Alternates I and II; and

b. In Alternate III:

i. Revising the date of the Alternate; and

ii Removing from the introductory text “25.1101(b)(2)(iv)” and adding “25.1101(b)(2)(iii)” in its place.

The revisions read as follows:

52.225-4 Buy American—Free Trade Agreement—Israeli Trade Act Certificate.

* * * * *

Buy American—Free Trade Agreements—Israeli Trade Act Certificate (Feb 2021)

* * * * *

Alternate I [Reserved]

Alternate II (DATE). As prescribed in 25.1101(b)(2)(ii), substitute the following paragraph (b) for paragraph (b) of the basic provision:

(b) The offeror certifies that the following supplies are Israeli end products as defined in the clause of this solicitation entitled “Buy American—Free Trade Agreements—Israeli Trade Act—Balance of Payments Program”:

Israeli End Products:

Line Item No. |  |

[List as necessary]

Alternate III (DATE). * * *

* * * * *

21. Amend section 52.225-5 by—

a. Revising the date of the clause; and

b. In paragraph (a), in the definition “Designated country” removing from paragraph (2) the phase “Canada,”.

The revision reads as follows:

52.225-5 Trade Agreements.

* * * * *

Trade Agreements (DATE)

* * * * *

22. Amend section 52.225-11 by—

a. Revising the date of the clause;

b. In paragraph (a), in the definition of “Designated country”, removing from paragraph (2) the phrase “Canada,”;

c. Revising the date of Alternate I; and

d. Removing from paragraph (b) the phrase “NAFTA” and adding “United States-Mexico-Canada Agreement” in its place.

The revisions read as follows:

52.225-11 Buy American—Construction Materials Under Trade Agreements.

* * * * *

Buy American—Construction Materials Under Trade Agreements (DATE)

* * * * *

Alternate I (DATE). * * *

* * * * *

23. Amend section 52.225-23 by—

a. Revising the date of the clause; and

b. In paragraph (a), in the definitions of “Designated country” and “Recovery Act designated country”, removing from paragraph (2) the phrase “Canada,”.

The revisions read as follows:

52.225-23 Required Use of American Iron, Steel, and Manufactured Goods—Buy American Statute—Construction Materials Under Trade Agreements.

* * * * *

Required Use of American Iron, Steel, and Manufactured Goods—Buy American Statute—Construction Materials Under Trade Agreements (DATE)

* * * * *

[FR Doc. 2021-26094 Filed 12-10-21; 8:45 am]

BILLING CODE 6820-EP-P